DEPARTMENT OF TRANSPORTATION

Federal Aviation Administration

Second Meeting—Special Committee 222—Inmarsat Aeronautical Mobile Satellite (Route) Services

AGENCY: Federal Aviation Administration (FAA), DOT.

ACTION: Notice of RTCA Special Committee 221 meeting.

SUMMARY: The FAA is issuing this notice to advise the public of a meeting of RTCA Special Committee 222: Inmarsat Aeronautical Mobile Satellite (Route) Services.

DATES: The meeting will be held April 22-23, 2009. Times: April 22 from 1 p.m. to 5 p.m. and April 23 from 9 a.m. to 5 p.m.

ADDRESSES: The meeting will be held at RTCA, 1828 L Street, NW., Suite 805, Washington, DC 20036; telephone (202) 833-9339; fax (202) 833-9434; Web site http://www.rtca.org.

FOR FURTHER INFORMATION CONTACT: RTCA Secretariat, 1828 L Street, NW., Suite 805, Washington, DC 20036; telephone (202) 833-9339; fax (202) 833-9434; Web site http://www.rtca.org.

Note: Business Casual.

SUPPLEMENTARY INFORMATION: Pursuant to section 10(a)(2) of the Federal Advisory Committee Act (Pub. L. 92-463, 5 U.S.C., Appendix 2), notice is hereby given for a Special Committee 222, Inmarsat Aeronautical Mobile Satellite (Route) Services. The agenda will include:

• Opening Plenary Session (Greetings and Introductions).

• Review and Approval SC-222 first plenary summary.

• Review and Approval SC-222 second plenary agenda.

• Old Business.

• Review of/reports for the currently active Action Items regarding ATCt issues.

• Inmarsat: Determine if ΔT/T = 6% is based on logged-on status or on the acquisition phase.

• Rockwell Collins, EMS, and Honeywell: Determine if the AEC interference tolerance threshold of −52 dBm at the AEC receiver RF input port (the DNLA antenna port in ARINC systems) is based on BER.

• Inmarsat: Clarify ATCt use U.S. airspace vs. other continental airspace.

• Review of/reports for the currently active Action Items regarding SBB Safety issues.

• Inmarsat: Complete the tables for DO-262 and DO-270 listing in Working Paper WP-4.

• Working Papers, Discussions, and Schedule Review regarding ATCt issues.

• Overview & Interpretations of ATCt Spectrum Plans—Inmarsat.

• ATCt Interference Model including NTIA Approved Propagation Model—Inmarsat.

• Aircraft Interference Scenarios—Sky Terra.

• Aero Classic Equipment—Initial Results—Inmarsat.

• Discussion of aeronautical Ancillary Terrestrial Component (ATCt) Interference Model—(ToR Task 2) All.

• Working Papers, Discussions, and Schedule Review regarding SBB & Classic Safety Services.

• Review Initial Draft Material related to DO-270 (ToR Task 3).

• Review Initial Draft Material related to DO-262 (ToR Task 4).

• Document revision of DO-210D (ToR Task 5).

• Review and Update the Terms of Reference—All.

• Review of Planning & Schedule of Delivery of SC Products (ToR Task 1).

• Development of report to PMC regarding any changes to ToR.

• Other Business.

• Electronic Access to SC-222 Artifacts—Daryl McCall, Fastek.

• Review of Assignments and Action Items.

• Date and Location for the 3rd Meeting of SC-222.

• Schedule Next Meeting, adjourn (No later than January 16, 12 noon).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 19, 2009.
Francisco Estrada C.,
RTCA Advisory Committee.

[FR Doc. E9-6988 Filed 3-27-09; 8:45 am]

BILLING CODE 4910-13-P